DEPARTMENT OF DEFENSE

Office of the Secretary

[Transmittal No. 18-0B]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(5)(C) arms sales notification is published to fulfill the requirements of section 155 of Public Law 104-164 dated July 21, 1996. The following is a copy of a letter to the Speaker of the House of Representatives, Transmittal 18-0B.

Dated: August 7, 2018.
Shelly E. Finke,
Alternate OSD Federal Register Liaison Officer, Department of Defense.

BILLING CODE 5001-06-P

BILLING CODE 5001-06-C

Transmittal No. 18-0B

REPORT OF ENHANCEMENT OR UPGRADE OF SENSITIVITY OF TECHNOLOGY OR CAPABILITY (SEC. 36(B)(5)(C)), (AECA)

(i) Purchaser: Government of France

(ii) Sec. 36(b)(1), AECA Transmittal No.: 13-40

Date: 27 June 2013

Military Department: U.S. Air Force

(iii) Description: On 27 June 2013, Congress was notified by Congressional certification transmittal number 13-40 of the possible sale under Section 36(b)(1) of the Arms Export Control Act of 16 MQ-9 Reaper Remotely Piloted Aircraft, 8 Mobile Ground Control Stations (GCS), 48 Honeywell TPE331-10T Turboprop Engines (16 installed and 32 Spares), 24 Satellite Earth Terminal Substations, 40 Ku Band Link-Airborne Communication Systems, 40 General Atomics Lynx (exportable) Synthetic Aperture Radar/Ground Moving Target Indicator (SAR/GMTI) Systems, 40 AN/DAS-1 Multi-Spectral Targeting System (MTS)-B, 40 Ground Data Terminals, 40 ARC-210 Radio Systems, 40 Embedded Global Positioning System/Inertial Navigation Systems, and 48 AN/APX-119 and KIV-119 Identify Friend or Foe (IFF) Systems. Also provided are spare and repair parts, communication, test, and support equipment, publications and technical documentation, airworthiness and maintenance support, site surveys and bed down planning, personnel training and training equipment, operational flight test, U.S. Government and contractor technical and logistics personnel services, and other related elements of logistics support. The estimated cost was $1.5 billion. Major Defense Equipment (MDE) constituted $765 million of this total.

This transmittal reports the retrofit of MQ-9s to become weapons capable, and the inclusion of 100 GBU-49 Enhanced Paveway dual mode GPS and laser guided bomb kits comprised of MXU-650 Air Foil Group (AFG) and MAU-210 Enhanced Computer Control Group (ECCG); 200 FMU-152 fuzes; 650 AGM-114R Hellfire missiles, with active warheads; 45 AGM-114R Hellfire training missiles, without active warheads; and 6 Hellfire Captive Air Training Missiles.

The retrofit and inclusion of MDE not enumerated in the original notification will result in an increase in the cost of MDE by $210 million. The total case value will increase to $1.71 billion.

(iv) Significance: This notification is being provided as the retrofit of the MQ-9 systems to become weapons capable, and the inclusion of MDE items not originally notified represents an increase in capability. Enhancement of France's MQ-9 will provide strike capability to augment the current intelligence, surveillance, and reconnaissance (ISR) capability.

(v) Justification: Enhancement of France's MQ-9 to provide strike capability will contribute to the foreign and national security policies of the United States by enhancing the ISR and strike capability of a NATO ally. This creates a multi-role capability to provide rapid response to neutralize threats without having to employ secondary aircraft from French, U.S., or coalition partners, in support of national, NATO, and UN-mandated operations. This further contributes to commonality between ISR, weapons, and munitions capabilities which will greatly increase the interoperability between the U.S., French militaries and other peacekeeping forces.

(vi) Sensitivity of Technology: France currently owns and operates an unarmed version of the MQ-9 Unmanned Aerial Vehicle (UAV) system. No new Critical Program Information or Technology is involved in the weaponization process. In addition to weaponization kits and pylons, software and hardware upgrades, survey and test, and training and training equipment, sensitive or classified elements of the upgrade will include:

a. The AGM-114R Hellfire is a rail-launched guided missile. The guidance system employs a Semi-Active Laser (SAL) seeker and an analogue autopilot. The SAL missiles home on the laser energy reflected off a target that has been illuminated by a laser designator. The laser designator can be on either the launch platform or another platform. The Hellfire uses a pulse-coded laser illumination so that the missile will only lock on to its chosen target, and has a multi-purpose selectable warhead. The weapon system hardware, as an “all Up Round” is UNCLASSIFIED. The highest level of classified information to be disclosed regarding the AGM-114R Hellfire missile is SECRET, based upon the software.

b. The Captive Air Training Missiles (CATM) consists of a functional guidance section coupled to an inert missile bus and is used for flight training but cannot be launched. The missile has an operational SAL seeker that can search for and lock-on to laser-designated targets. It functions like a tactical missile (without launch capability) during captive carry on the aircraft, making it suitable for training aircrew in simulated Hellfire missile target acquisition and lock.

c. GBU-49 Enhanced Paveway II (EP II) is a maneuverable, free-fall Laser Guided Bomb (LGB) that guides to the target using a GPS-aided INS and dual mode laser seeker. The GBU-49 consists of an Electronic Computer Control Group (ECCG) with laser detector sensor and a warhead specific Air Foil Group (AFG) that attaches to the nose and tail of a GP bomb body respectively. The GBU-49 uses a 5001b (Mk-82 or BLU-111) GP bomb body fitted with the MXU-650 AFG and MAU-210 ECCG to guide to its laser designated target. The hardware is UNCLASSIFIED; technical data and documents are classified up to SECRET.

d. FMU-152 is the Joint Programmable Bomb Fuze; a multi-function hard/soft target fuze that is used on for multiple different Mk-series bombs. The fuze can be programmed on the wing or in flight and is used with the JDAM, Paveway, and Enhanced Paveway bombs. The hardware is UNCLASSIFIED; technical data and documents are UNCLASSIFED.

(vii) Date Report Delivered to Congress: July 26, 2018

[FR Doc. 2018-17154 Filed 8-9-18; 8:45 am]

BILLING CODE 5001-06-P